DEPARTMENT OF DEFENSE

Department of the Army

[Docket ID USA-2011-0020]

Privacy Act of 1974; System of Records

AGENCY: Department of the Army, Department of Defense (DoD).

ACTION: Notice to amend a system of records.

SUMMARY: The Department of the Army is proposing to amend a system of records notice in its existing inventory of records systems subject to the Privacy Act of 1974, (5 U.S.C. 552a), as amended.

DATES: The changes will be effective on September 15, 2011 unless comments are received that would result in a contrary determination.

ADDRESSES: You may submit comments, identified by docket number and title, by any of the following methods:

• Federal Rulemaking Portal: http://www.regulations.gov. Follow the instructions for submitting comments.

• Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Leroy Jones, Department of the Army, Privacy Office, U.S. Army Records Management and Declassification Agency, 7701 Telegraph Road, Casey Building, Suite 144, Alexandria, VA 22325-3905, or by phone at (703) 428-6185.

SUPPLEMENTARY INFORMATION: The Department of the Army systems of records notices subject to the Privacy Act of 1974, (5 U.S.C. 552a), as amended, have been published in the Federal Register and are available from the address in FOR FURTHER INFORMATION CONTACT.

The specific changes to the records systems being amended are set forth below followed by the notices, as amended, published in their entirety. The proposed amendments are not within the purview of subsection (r) of the Privacy Act of 1974, (5 U.S.C. 552a), as amended, which requires the submission of a new or altered system report.

Dated: August 10, 2011.
Aaron Siegel,
Alternate OSD Federal Register Liaison Officer, Department of Defense.

A0195-2b USACIDC

System Name:

Criminal Investigation and Crime Laboratory Files (August 1, 2011, 76 FR 45783).

Changes:

* * * * *

Retention and disposal:

Delete entry and replace with “Reports of Investigation: At Headquarters, U.S. Army Criminal Investigation Command (USACIDC), criminal investigative case files are retained for 40 years after final action, except that at USACIDC subordinate elements, such files are retained from 1 to 5 years depending on the level of such unit and the data involved.

Laboratory Reports:

Laboratory reports at the USACIDC laboratory are destroyed after 40 years.

Criminal Intelligence Reports:

At Headquarters, USACIDC Intelligence Division criminal intelligence reports are destroyed when no longer needed. Except reports containing information of current operation value may be kept and reviewed yearly for continued retention, not to exceed 20 years. Group headquarters destroy after 5 years. District and field office elements destroy after 3 years or when no longer needed.”

* * * * *

A0195-2b USACIDC

System name:

Criminal Investigation and Crime Laboratory Files.

System location:

Headquarters, U.S. Army Criminal Investigation Command, 27130 Telegraph Road, Quantico, VA 22134-2253.

Segments exist at subordinate U.S. Army Criminal Investigation Command elements. Addresses may be obtained from the Commander, U.S. Army Criminal Investigation Command, 27130 Telegraph Road, Quantico, VA 22134-2253.

An automated index of cases is maintained at the U.S. Army Crime Records Center, U.S. Army Criminal Investigation Command, 27130 Telegraph Road, Quantico, VA 22134-2253.

Categories of individuals covered by the system:

Any individual, civilian or military, involved in, witnessing or suspected of being involved in or reporting possible criminal activity affecting the interests, property, and/or personnel of the U.S. Army.

Categories of records in the system:

Name, Social Security Number, rank, date and place of birth, chronology of events; reports of investigation and criminal intelligence reports containing statements of witnesses, suspects, subject and agents; laboratory reports, polygraph reports, documentary evidence, physical evidence, summary and administrative data pertaining to preparation and distribution of the report; basis for allegations; Serious or Sensitive Incident Reports, modus operandi and other investigative information from Federal, State, and local investigative and intelligence agencies and departments; similar relevant documents. Indices contain codes for the type of crime, location of investigation, year and date of offense, names and personal identifiers of persons who have been subjects of electronic surveillance, suspects, subjects and victims of crimes, report number which allows access to records noted above; agencies, firms, Army and Defense Department organizations which were the subjects or victims of criminal investigations; and disposition and suspense of offenders listed in criminal investigative case files, witness identification data.

Authority for maintenance of the system:

10 U.S.C. 3013, Secretary of the Army; Army Regulation 195-2, Criminal Investigation Activities; 42 U.S.C. 10606 et seq.; DoD Directive 1030.1, Victim and Witness Assistance; and E.O. 9397 (SSN), as amended.

Purpose(s):

To conduct criminal investigations, crime prevention and criminal intelligence activities; to accomplish management studies involving the analysis, compilation of statistics, quality control, etc., to ensure that completed investigations are legally sufficient and result in overall improvement in techniques, training and professionalism. Includes personnel security, internal security, criminal, and other law enforcement matters, all of which are essential to the effective operation of the Department of the Army.

The records in this system are used for the following purposes: Suitability for access or continued access to classified information; suitability for promotion, employment, or assignment; suitability for access to military installations or industrial firms engaged in government projects/contracts; suitability for awards or similar benefits; use in current law enforcement investigation or program of any type including applicants; use in judicial or adjudicative proceedings including litigation or in accordance with a court order; advising higher authorities and Army commands of the important developments impacting on security, good order or discipline; reporting of statistical data to Army commands and higher authority; input into the Defense Security Service managed Defense Clearance and Investigations Index (DCII) database under system notice V5-02.

Routine Uses of Records Maintained in the System, Including Categories of Users and the Purposes of Such Uses:

In addition to those disclosures generally permitted under 5 U.S.C. 552a(b) of the Privacy Act of 1974, these records contained therein may specifically be disclosed outside the DoD as a routine use pursuant to 5 U.S.C. 552a(b)(3) as follows:

Information concerning criminal or possible criminal activity is disclosed to Federal, State, local and/or foreign law enforcement agencies in accomplishing and enforcing criminal laws; analyzing modus operandi, detecting organized criminal activity, or criminal justice employment. Information may also be disclosed to foreign countries under the provisions of the Status of Forces Agreements, or Treaties.

To the Department of Veterans Affairs to verify veterans claims. Criminal investigative files may be used to adjudicate veteran claims for disability benefits, post traumatic stress disorder, and other veteran entitlements.

To Federal, state, and local agencies to comply with the Victim and Witness Assistance Program and the Victims' Rights and Restitution Act of 1990, when the agency is requesting information on behalf of the individual.

To Federal, state, and local law enforcement agencies and private sector entities for the purposes of complying with mandatory background checks, i.e., Brady Handgun Violence Prevention Act (18 U.S.C. 922) and the National Child Protection Act of 1993 (42 U.S.C. 5119 et seq.).

To Federal, state, and local child protection services or family support agencies for the purpose of providing assistance to the individual.

To victims and witnesses of a crime for purposes of providing information, consistent with the requirements of the Victim and Witness Assistance Program, regarding the investigation and disposition of an offense.

To the Immigration and Naturalization Service, Department of Justice, for use in alien admission and naturalization inquiries conducted under Section 105 of the Immigration and Naturalization Act of 1952, as amended.

The DoD ‘Blanket Routine Uses’ set forth at the beginning of the Army's compilation of systems of records notices also apply to this system.

Policies and Practices for Storing, Retrieving, Accessing, Retaining, and Disposing of Records in the System:

Storage:

Paper records in file folders and on electronic media.

Retrievability:

By name or other identifier of individual.

Safeguards:

Access is limited to designated authorized individuals having official need for the information in the performance of their duties. Buildings' housing records are protected by security guards.

Retention and disposal:

Reports of Investigation: At Headquarters, U.S. Army Criminal Investigation Command (USACIDC), criminal investigative case files are retained for 40 years after final action, except that at USACIDC subordinate elements, such files are retained from 1 to 5 years depending on the level of such unit and the data involved.

Laboratory Reports:

Laboratory reports at the USACIDC laboratory are destroyed after 40 years.

Criminal Intelligence Reports:

At Headquarters, USACIDC Intelligence Division criminal intelligence reports are destroyed when no longer needed. Except reports containing information of current operation value may be kept and reviewed yearly for continued retention, not to exceed 20 years. Group headquarters destroy after 5 years. District and field office elements destroy after 3 years or when no longer needed.

System manager(s) and address:

Commander, Headquarters, U.S. Army Criminal Investigation Command, 27130 Telegraph Road, Quantico, VA 22134-2253.

Notification procedure:

Individuals seeking to determine whether information about themselves is contained in this system should address written inquiries to the Director, U.S. Army Crime Records Center, U.S. Army Criminal Investigation Command, Attn: CICR-FP, 27130 Telegraph Road, Quantico, VA 22134-2253.

For verification purposes, individual should provide the full name, date and place of birth, current address, telephone numbers, and signature.

Record access procedures:

Individual seeking access to information about themselves contained in this system should address written inquiries to the Director, U.S. Army Crime Records Center, U.S. Army Criminal Investigation Command, Attn: CICR-FP, 27130 Telegraph Road, Quantico, VA 22134-2253.

For verification purposes, individual should provide the full name, date and place of birth, current address, telephone numbers, and signature.

Contesting record procedures:

The Army's rules for accessing records, and for contesting contents and appealing initial agency determinations are contained in Army Regulation 340-21; 32 CFR part 505; or may be obtained from the system manager.

Record source categories:

Suspects, witnesses, victims, USACIDC special agents and other personnel, informants; various Department of Defense, federal, state, and local investigative agencies; departments or agencies of foreign governments; and any other individual or organization which may supply pertinent information.

Exemptions claimed for the system:

Parts of this system may be exempt pursuant to 5 U.S.C. 552a(j)(2) if the information is compiled and maintained by a component of the agency which performs as its principle function any activity pertaining to the enforcement of criminal laws.

An exemption rule for this system has been promulgated in accordance with requirements of 5 U.S.C. 553(b)(1), (2), and (3), (c) and (e) and published in 32 CFR part 505. For additional information contact the system manager.

[FR Doc. 2011-20712 Filed 8-15-11; 8:45 am]

BILLING CODE 5001-06-P